DEPARTMENT OF COMMERCE

International Trade Administration

[A-570-937]

Citric Acid and Certain Citrate Salts From the People's Republic of China: Preliminary Results of Antidumping Duty Administrative Review, Preliminary Determination of No Shipments, and Preliminary Partial Rescission of Antidumping Duty Administrative Review; 2015-2016

AGENCY: Enforcement and Compliance, International Trade Administration, Department of Commerce.

SUMMARY: The Department of Commerce (“the Department”) is conducting the seventh administrative review (“AR”) of the antidumping duty order on citric acid and certain citrate salts (“citric acid”) from the People's Republic of China (“PRC”). The Department selected two companies, RZBC Co., Ltd., RZBC Import & Export Co., Ltd., and RZBC (Juxian) Co., Ltd. (collectively, “RZBC”) and Laiwu Taihe Biochemistry Co., Ltd. (“Taihe”), as mandatory respondents for individual examination. The period of review (“POR”) for the AR is May 1, 2015 through April 30, 2016. The Department is rescinding the review with respect to RZBC. Further, the Department preliminarily finds that Taihe is part of the PRC-wide entity.

DATES: Effective February 8, 2017.

FOR FURTHER INFORMATION CONTACT: Krisha Hill or Maliha Khan, Office IV, Enforcement & Compliance, International Trade Administration, Department of Commerce, 1401 Constitution Avenue NW., Washington, DC 20230; telephone: (202) 482-4037 or (202) 482-0895, respectively.

SUPPLEMENTARY INFORMATION:

Scope of the Order

The products covered by the order include the hydrous and anhydrous forms of citric acid, the dihydrate and anhydrous forms of sodium citrate, otherwise known as citric acid sodium salt, and the monohydrate and monopotassium forms of potassium citrate. Sodium citrate also includes both trisodium citrate and monosodium citrate, which are also known as citric acid trisodium salt and citric acid monosodium salt, respectively. Citric acid and sodium citrate are classifiable under 2918.14.0000 and 2918.15.1000 of the Harmonized Tariff Schedule of the United States (“HTSUS”), respectively. Potassium citrate and crude calcium citrate are classifiable under 2918.15.5000 and 3824.90.9290 of the HTSUS, respectively. Blends that include citric acid, sodium citrate, and potassium citrate are classifiable under 3824.90.9290 of the HTSUS. Although the HTSUS subheadings are provided for convenience and customs purposes, the written description of the merchandise is dispositive.¹

¹ See Citric Acid and Certain Citrate Salts from Canada and the People's Republic of China: Antidumping Duty Orders, 74 FR 25703 (May 29, 2009) for a full description of the scope of the order.

Rescission of Administrative Review in Part

On May 31, 2016, Archer Daniels Midland Company, Cargill, Incorporated, and Tate & Lyle Ingredients Americas LLC (collectively “Petitioners”) requested an AR of subject merchandise exported by RZBC, Taihe, and an additional 16 companies. Subsequently, on October 5, 2016, Petitioners timely withdrew their request for an AR of RZBC.² No other party requested a review with respect to RZBC. Therefore, the Department, pursuant to 19 CFR 351.213(d)(1), is rescinding this AR with respect to RZBC.

² See Letter from Petitioners to the Department, “Citric Acid and Certain Citrate Salts from the People's Republic of China / Partial Withdrawal of Request for Administrative Review,” dated October 5, 2016.

Preliminary Determination of No Shipments

Two companies for which a review was requested, Niran (Thailand) Co., Ltd. (“Niran”) and Niran Biochemical Limited (“Niran Biochemical”), timely submitted certifications indicating that they had no exports, sales, shipments, or entries of subject merchandise during the POR. Consistent with our practice, the Department requested that U.S. Customs and Border Protection (“CBP”) conduct a query on potential shipments made by Niran and Niran Biochemical during the POR; CBP provided no evidence that contradicted the companies' claims of no shipments. Based on the no shipment certifications submitted by Niran and Niran Biochemical, and our analysis of the CBP information, we preliminarily determine that Niran and Niran Biochemical had no shipments during the POR. However, consistent with our practice in non-market economy (“NME”) cases, the Department intends to complete the review with respect to Niran and Niran Biochemical and issue appropriate instructions to CBP based on the final results of the review.

Methodology

The Department is conducting this AR in accordance with section 751(a)(1)(B) of the Tariff Act of 1930, as amended (“the Act”). For a full description of the methodology underlying our conclusions, see the Preliminary Decision Memorandum.³ This memorandum is a public document and is on file electronically via Enforcement and Compliance's Antidumping and Countervailing Duty Centralized Electronic Service System (“ACCESS”). ACCESS is available to registered users at https://access.trade.gov/login.aspx and in the Central Records Unit, Room B8024 of the main Department of Commerce building. In addition, a complete version of the Preliminary Decision Memorandum can be accessed directly at http://enforcement.trade.gov/frn/index.html/. The signed Preliminary Decision Memorandum and the electronic version of the Preliminary Decision Memorandum are identical in content.

³ See Memorandum from Gary Taverman, Associate Deputy Assistant Secretary, Antidumping and Countervailing Duty Operations, to Ronald K. Lorentzen, Acting Assistant Secretary for Enforcement and Compliance, “Decision Memorandum for the Preliminary Results of Antidumping Duty Administrative Review, Preliminary Determination of No Shipments, and Preliminary Partial Rescission of Antidumping Duty Administrative Review: Citric Acid and Certain Citrate Salts from the People's Republic of China; 2015-2016,” issued concurrently with this notice (“Preliminary Decision Memorandum”).

Preliminary Results of Review

The Department's change in policy regarding conditional review of the PRC-wide entity applies to this AR.⁴ Aside from RZBC, for which the AR is being rescinded, the Department considers all other companies for which a review was requested to be part of the PRC-wide entity. Because Taihe did not respond to the Department's original questionnaire and did not provide separate rate information, Taihe has not established its eligibility for separate rate status and, therefore, is part of the PRC-wide entity.

⁴ See Antidumping Proceedings: Announcement of Change in Department Practice for Respondent Selection in Antidumping Duty Proceedings and Conditional Review of the Nonmarket Economy Entity in NME Antidumping Duty Proceedings, 78 FR 65963 (November 4, 2013). Under this policy, the PRC-wide entity will not be under review unless a party specifically requests, or the Department self-initiates, a review of the entity. Because no party requested a review of the PRC-wide entity in this review, the entity's rate (i.e., 156.87 percent) is not subject to change.

In addition to Taihe, 14 companies listed in the Initiation Notice and, thus, subject to this AR, failed to provide separate rate applications or separate rate certifications necessary to establish their eligibility for a separate rate. Therefore, the Department preliminarily determines that these 14 companies are not eligible for a separate rate and are part of the PRC-wide entity.

The rate previously established for the PRC-wide entity in this proceeding is 156.87 percent.⁵ For additional information, see the Preliminary Decision Memorandum.

⁵ See Citric Acid and Certain Citrate Salts from the People's Republic of China: Final Results of Antidumping Duty Administrative Review; 2013-2014, 80 FR 77323, 77324 (December 14, 2015).

Disclosure and Public Comment

Interested parties may submit case briefs and/or written comments, filed electronically using ACCESS, within 30 days of the date of publication of these preliminary results of review.⁶ Rebuttal briefs, limited to issues raised in the case briefs, will be due five days after the due date for case briefs.⁷ Parties who submit case or rebuttal briefs in this proceeding are requested to submit with each argument a statement of the issue, a summary of the argument not to exceed five pages, and a table of authorities.⁸

⁶ See 19 CFR 351.309(c).

⁷ See 19 CFR 351.309(d).

⁸ See 19 CFR 351.309(c).

Further, interested parties who wish to request a hearing must submit a written request to the Assistant Secretary for Enforcement and Compliance, U.S. Department of Commerce, within 30 days after the publication of this notice.⁹ Electronically filed case briefs/written comments and hearing requests must be received successfully in their entirety by the Department's electronic records system, ACCESS, by 5:00 p.m. Eastern Time, within 30 days after the date of publication of this notice.¹⁰ Hearing requests should contain: (1) The party's name, address and telephone number; (2) the number of participants; and (3) a list of issues to be discussed. Issues raised in the hearing will be limited to those issues raised in the respective case briefs. If a request for a hearing is made, parties will be notified of the time and date of the hearing which will be held at the U.S. Department of Commerce, 1401 Constitution Avenue NW., Washington, DC 20230.

⁹ See 19 CFR 351.310(c).

¹⁰ Id.

The Department intends to issue the final results of this AR, including the results of its analysis of the issues raised in any written briefs, not later than 120 days after the date of publication of this notice, unless extended, pursuant to section 751(a)(3)(A) of the Act.

Assessment Rates

Upon issuance of the final results, the Department will determine, and CBP shall assess, antidumping duties on all appropriate entries covered by this review.¹¹ The Department intends to issue assessment instructions to CBP 15 days after the publication date of the final results of this review. The Department intends to instruct CBP to liquidate entries of subject merchandise from the PRC-wide entity, including entries of subject merchandise from Taihe, at 156.87 percent (the PRC-wide rate).¹²

¹¹ See 19 CFR 351.212(b)(1).

¹² For a full discussion of this practice, see Non-Market Economy Antidumping Proceedings: Assessment of Antidumping Duties, 76 FR 65694 (October 24, 2011).

Cash Deposit Requirements

The following cash deposit requirements will be effective upon publication of the final results of this AR for all shipments of the subject merchandise entered, or withdrawn from warehouse, for consumption on or after the publication date of the final results of review, as provided by section 751(a)(2)(C) of the Act: (1) For previously investigated or reviewed PRC and non-PRC exporters which are not under review in this segment of the proceeding but which have separate rates, the cash deposit rate will continue to be the exporter-specific rate published for the most recently completed segment of this proceeding; (2) for all PRC exporters of subject merchandise that have not been found to be entitled to a separate rate, the cash deposit rate will be the rate for the PRC-wide entity, 156.87 percent; and (3) for all non-PRC exporters of subject merchandise which have not received their own rate, the cash deposit rate will be the rate applicable to the PRC exporter(s) that supplied that non-PRC exporter. These deposit requirements, when imposed, shall remain in effect until further notice.

Notification to Importers

This notice also serves as a preliminary reminder to importers of their responsibility under 19 CFR 351.402(f)(2) to file a certificate regarding the reimbursement of antidumping duties prior to liquidation of the relevant entries during this review period. Failure to comply with this requirement could result in the Department's presumption that reimbursement of antidumping duties occurred and the subsequent assessment of double antidumping duties.

We are issuing and publishing these results in accordance with sections 751(a)(1) and 777(i)(1) of the Act and 19 CFR 351.213 and 351.221(b)(4).

Dated: January 31, 2017.
Ronald K. Lorentzen,
Acting Assistant Secretary for Enforcement and Compliance.

Appendix

List of Topics Discussed in the Preliminary Decision Memorandum

I. Summary

II. Background

III. Partial Rescission

IV. Scope of the Order

V. Discussion of the Methodology

VI. Recommendation

[FR Doc. 2017-02528 Filed 2-7-17; 8:45 am]

BILLING CODE 3510-DS-P